DEPARTMENT OF ENERGY

Federal Energy Regulatory Commission

[Docket No. ER12-1653-005]

New York Independent System Operator, Inc.; Notice of Compliance Filing

Take notice that, on August 26, 2014, the New York Independent System Operator, Inc. (NYISO) submitted a filing containing a demonstration of how its interim market power mitigation proposal meets the requirements of Order No. 755 ¹ and the Commission's November 6, 2012 order ² as a permanent market power mitigation method, to comply with Ordering Paragraph (B) of the Commission's May 31, 2013 Order.³

¹ Frequency Regulation Compensation in the Organized Wholesale Power Markets, Order No. 755, FERC Stats. & Regs. ¶ 31,324 (2011), order denying reh'g, Order No. 755-A, 138 FERC ¶ 61,123 (2012).

² New York Independent System Operator, Inc., 141 FERC ¶ 61,105 (2012).

³ New York Independent System Operator, Inc. 143 FERC ¶ 61,194 (2013).

Any person desiring to intervene or to protest the foregoing compliance portion of this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all the parties in this proceeding.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for electronic review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on October 9, 2014.

Dated: September 18, 2014.
Kimberly D. Bose,
Secretary.

[FR Doc. 2014-22794 Filed 9-24-14; 8:45 am]

BILLING CODE 6717-01-P